DEPARTMENT OF DEFENSE

Department of the Army

Availability for Non-Exclusive, Exclusive, or Partially Exclusive Licensing of U.S. Patent Concerning Invaplex From Gram Negative Bacteria, Method of Purification and Method of Use

AGENCY: Department of the Army, DoD.

ACTION: Notice.

SUMMARY: In accordance with 37 CFR 404.6 and 404.7, announcement is made of the availability for licensing of U.S. Patent No. 6,680,374 entitled “Invaplex from Gram Negative Bacteria, Method of Purification and Method of Use,” filed January 31, 2001. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Isolated antibodies to Invaplex; novel compositions comprising immunoglobulins directed to invasin proteins and LPS from gram negative bacteria that selectively bind to Invaplex, and do not bind to the individual components of Invaplex.

Luz D. Ortiz,
Army Federal Register Liaison Officer.

[FR Doc. 04-1726 Filed 1-26-04; 8:45 am]

BILLING CODE 3710-08-M